SECURITIES AND EXCHANGE COMMISSION

[Release No. 34-49029; File No. SR-NASD-2003-145]

Self-Regulatory Organizations; Order Granting Accelerated Approval to a Proposed Rule Change and Amendment Nos. 1 and 2 Thereto by the National Association of Securities Dealers, Inc. To Give Authority to a 3-Member Subcommittee of NASD's Market Regulation Committee To Review Alternative Display Facility System Outage and Denial of Excused Withdrawal Determinations

January 6, 2004.

On September 25, 2003, the National Association of Securities Dealers, Inc. (“NASD”) submitted the proposed rule change to the Securities and Exchange Commission (“Commission”), pursuant to Section 19(b)(1) of the Securities Exchange Act of 1934 (“Act”),¹ and Rule 19b-4 thereunder.² On November 24, 2003 and December 2, 2003, NASD filed Amendment Nos. 1³ and 2⁴ to the proposed rule change, respectively. The proposed rule change amends NASD Rules 4300A and 4619A(g) to give jurisdiction to a 3-member subcommittee of NASD's Market Regulation Committee (“MRC”) to review system outage determinations under Rule 4300A(f) and excused withdrawal denials under Rule 4619A. The Federal Register published the proposed rule change, as amended, for comment on December 15, 2003.⁵ The Commission received no comments on the proposal.

¹ 15 U.S.C. 78s(b)(1).

² 17 CFR 240.19b-4.

³ NASD filed a new Form 19b-4, which replaces and supersedes the original filing in its entirety.

⁴ Letter from Philip A. Shaikun, Office of General Counsel, Regulatory Policy and Oversight, NASD, to Katherine A. England, Assistant Director, Division of Market Regulation, Commission, dated December 2, 2003 (“Amendment No. 2”). Amendment No. 2 deletes the following sentence from Exhibit 1 to the Form 19b-4: “NASD has designated the proposed rule change as concerned solely with administration of the self-regulatory organization under Section 19(b)(3)(A)(iii) of the Act and Rule 19b-4(f)(3) thereunder, which renders the proposal effective upon receipt of this filing by the Commission.”

⁵ Securities Exchange Act Release No. 48880 (December 4, 2003), 68 FR 69734.

The Commission finds that the proposed rule change, as amended, is consistent with the requirements of the Act and the rules and regulations thereunder applicable to a national securities exchange ⁶ and, in particular, the requirements of Section 6 of the Act ⁷ and the rules and regulations thereunder. The Commission finds that the proposed rule change is consistent with Section 6(b)(5) of the Act ⁸ and believes that the proposed rules should enable the NASD to take advantage of the MRC committee's expertise, and at the same time continue to provide market participants a sufficient process by which to appeal system outage and excused withdraw determinations.

⁶ In approving this proposed rule change, the Commission notes that it has considered the proposed rule's impact on efficiency, competition, and capital formation. 15 U.S.C. 78c(f).

⁷ 15 U.S.C. 78f.

⁸ 15 U.S.C. 78f(b)(5).

The Commission finds good cause for accelerating approval of the proposed rule change and Amendment Nos. 1 and 2 prior to the thirtieth day after publication in the Federal Register. The Commission believes that accelerated approval will permit, without undue delay, the 3-member subcommittee of NASD's MRC to review system outage determinations and excused withdrawal denials. Accordingly, the Commission finds good cause, consistent with Section 19(b)(2) of the Act,⁹ to approve the proposed rule change, as amended, prior to the thirtieth day after publication of the notice of filing.

⁹ 15 U.S.C. 78s(b)(2).

It is therefore ordered, pursuant to Section 19(b)(2) of the Act,¹⁰ that the proposed rule change (SR-NASD-2003-145), as amended, is hereby approved, on an accelerated basis.

¹⁰ Id.

For the Commission, by the Division of Market Regulation, pursuant to delegated authority.¹¹

¹¹ 17 CFR 200.30-3(a)(12).

J. Lynn Taylor,
Assistant Secretary.

[FR Doc. 04-803 Filed 1-13-04; 8:45 am]

BILLING CODE 8010-01-P